DEPARTMENT OF JUSTICE

28 CFR Part 90

[OVW Docket No. 110]

RIN 1105-AB40

Removing Unnecessary Office on Violence Against Women Regulations

AGENCY: Office on Violence Against Women, Justice.

ACTION: Final rule.

SUMMARY: This rule removes the regulations for the STOP Violence Against Indian Women Discretionary Grant Program, because the Program no longer exists, and the Grants to Combat Violent Crimes Against Women on Campuses Program, because the regulations are no longer required and are unnecessary.

DATES: This rule is effective September 9, 2013.

FOR FURTHER INFORMATION CONTACT: Marnie Shiels, Office on Violence Against Women (OVW), United States Department of Justice, 145 N Street NE., Suite 10W.121, Washington, DC 20530 at marnie.shiels@usdoj.gov or (202) 305-2981.

SUPPLEMENTARY INFORMATION:

Background

STOP VAIW Program

In 1994, Congress passed the Violence Against Women Act (VAWA), a comprehensive legislative package aimed at ending violence against women. VAWA was enacted on September 13, 1994, as title IV of the Violent Crime Control and Law Enforcement Act of 1994, Public Law 103-322, 108 Stat. 1796. VAWA was designed to improve criminal justice system responses to domestic violence, sexual assault, and stalking, and to increase the availability of services for victims of these crimes. The STOP VAIW Program was codified at 42 U.S.C. 3796gg through 3796gg-5. The final rule for this program, found at 28 CFR part 90, subpart C, under the heading Indian Tribal Governments Discretionary Program, was promulgated on April 18, 1995 (74 FR 19474).

The Violence Against Women and Department of Justice Reauthorization Act of 2005 (VAWA 2005), Public Law 109-162, 119 Stat. 2960 (January 5, 2006) (hereinafter “VAWA 2005”), eliminated the STOP VAIW Program and replaced it with the Grants to Indian Tribal Governments Program, which is codified at 42 U.S.C. 3796gg-10. Accordingly, this rule removes the now unnecessary STOP VAIW Program regulations.

Higher Education Amendments of 1998

Violence against women on college and university campuses also is a serious, widespread problem. To help address this problem, Congress authorized the Grants to Combat Violent Crimes Against Women on Campuses Program in title VIII, part E, section 826 of the Higher Education Amendments of 1998, Public Law 105-244, 112 Stat. 1581 (Oct. 7, 1998). Consistent with VAWA, the Grants to Combat Violent Crimes Against Women on Campuses Program was designed to encourage the higher education community to adopt comprehensive, coordinated strategies for preventing and stopping violence against women. This program was originally codified at 20 U.S.C. 1152. The final rule for the program, found at 28 CFR part 90, subpart E, was promulgated on July 22, 1999 (64 FR 39774). VAWA 2005 amended the Campus Program and renamed it the Grants to Combat Violent Crimes on Campus Program (Campus Program) and recodified it at 42 U.S.C. 14045b.

When VAWA 2005 recodified the program, it removed the requirement for regulations. The current regulations are unnecessary as they add very little that is not already legally required under VAWA 2005 for grantees of the Campus Program. Accordingly, this rule also removes the Grants to Combat Violent Crimes Against Women on Campuses regulation.

The Office on Violence Against Women published the Notice of Proposed Rulemaking in the Federal Register on May 18, 2012. Comments were due by July 17, 2012. No comments were received in any form. Therefore, the Office on Violence Against Women is finalizing the proposed rule without change. This rule was reviewed by the Department of Justice's Regulatory Review Working Group, which was formed to implement Executive Order 13563 according to the criteria set forth in the Department's Plan for Retrospective Analysis of Existing Rules.

Regulatory Certifications

Executive Orders 12866 and 13563—Regulatory Review

This regulation has been drafted and reviewed in accordance with Executive Order 12866, “Regulatory Planning and Review,” section 1(b), Principles of Regulation, and in accordance with Executive Order 13563, “Improving Regulation and Regulatory Review,” section 1(b). General Principles of Regulation.

The Department of Justice has determined that this rule is not a “significant regulatory action” under Executive Order 12866, section 3(f), Regulatory Planning and Review, and accordingly this rule has not been reviewed by the Office of Management and Budget.

Further, both Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. The Department has assessed the costs and benefits of this regulation and believes that the regulatory approach selected maximizes net benefits.

Executive Order 13132—Federalism

This regulation will not have substantial direct effects on the States, on the relationship between the national government and the States, or on distribution of power and responsibilities among the various levels of government. Therefore, in accordance with Executive Order 13132, it is determined that this rule does not have sufficient federalism implications to warrant the preparation of a Federalism Assessment.

Executive Order 12988—Civil Justice Reform

This regulation meets the applicable standards set forth in sections 3(a) and 3(b)(2) of Executive Order 12988.

Executive Order 13175—Consultation and Coordination With Indian Tribal Governments

As set forth more fully above in the Supplementary Information portion, this rule will not result in substantial direct increased costs to Indian Tribal governments. Eliminating regulations for a program that no longer exists will not affect tribes.

Regulatory Flexibility Act

The Office on Violence Against Women, in accordance with the Regulatory Flexibility Act (5 U.S.C. 605(b)), has reviewed this regulation and, by approving it, certifies that this regulation will not have a significant economic impact upon a substantial number of small entities for the following reason: The economic impact is limited to the Office on Violence Against Women's appropriated funds.

Unfunded Mandates Reform Act of 1995

This rule will not result in the expenditure by State, local, and tribal governments, in the aggregate, or by the private sector, of $100,000,000 or more in any one year, and it will not uniquely affect small governments. Therefore, no actions were deemed necessary under the provisions of the Unfunded Mandates Reform Act of 1995.

Small Business Regulatory Enforcement Fairness Act of 1996

This rule is not a major rule as defined by section 804 of the Small Business Regulatory Enforcement Fairness Act of 1996. This rule will not result in an annual effect on the economy of $100,000,000 or more; a major increase in cost or prices; or significant adverse effects on competition, employment, investment, productivity, innovation, or on the ability of United States-based companies to compete in domestic and export markets.

List of Subjects in 28 CFR Part 90

Grant programs; Judicial administration.

For the reason set forth in the preamble, the Office on Violence Against Women amends 28 CFR part 90 as follows:

PART 90—VIOLENCE AGAINST WOMEN

1. The authority citation for Part 90 reads as follows:

Authority: 42 U.S.C. 3711-3796gg-7; Sec. 826, Part E, Title VIII, Pub. L. 105-244, 112 Stat. 1581, 1815.

Subpart C—[Removed and Reserved]

2. Remove and reserve subpart C, consisting of §§ 90.50-90.59.

Subpart E—[Removed and Reserved]

3. Remove and reserve subpart E, consisting of §§ 90.100-90.106.

Dated: July 1, 2013.
Bea Hanson,
Acting Director, Office on Violence Against Women, U.S. Department of Justice.

[FR Doc. 2013-16400 Filed 7-8-13; 8:45 am]

BILLING CODE 4410-FX-P